DEPARTMENT OF LABOR

Employment and Training Administration

[TA-W-53,237]

The Lane Company, Altavista, Virginia; Notice of Termination of Investigation

Pursuant to section 221 of the Trade Act of 1974, as amended, an investigation was initiated on October 14, 2003, in response to a worker petition filed on behalf of workers at The Lane Company, Altavista, Virginia.

The petitioner has requested that the petition be withdrawn. Consequently, further investigation in this case would serve no purpose, and the investigation has been terminated.

Signed at Washington, DC, this 27th day of October, 2003.
Elliott S. Kushner,
Certifying Officer, Division of Trade Adjustment Assistance.

[FR Doc. 03-30082 Filed 12-2-03; 8:45 am]

BILLING CODE 4510-30-P